DEPARTMENT OF HEALTH AND HUMAN SERVICES

National Institutes of Health

Office of the Director, National Institutes of Health; Amended Notice of Meeting

Notice is hereby given of a change in the meeting of the Council of Councils, November 20, 2008, 8:30 a.m. to November 21, 2008, 12:00 p.m., National Institutes of Health, Building 31, 31 Center Drive, Bethesda, MD 20892 which was published in the Federal Register on November 6, 2008, 73 FR 66052.

The closed session of the meeting has been cancelled. The meeting will be held on November 20-21, 2008. The meeting is open to the public.

Dated: November 10, 2008.
Jennifer Spaeth,
Director, Office of Federal Advisory Committee Policy.

[FR Doc. E8-27264 Filed 11-17-08; 8:45 am]

BILLING CODE 4140-01-P